DEPARTMENT OF HOMELAND SECURITY

Coast Guard

33 CFR Part 117

[Docket No. USCG-2010-1077]

Drawbridge Operation Regulations; Annisquam River and Blynman Canal, Gloucester, MA

AGENCY: Coast Guard, DHS.

ACTION: Notice of temporary deviation from regulations.

SUMMARY: The Commander, First Coast Guard District, has issued a temporary deviation from the regulation governing the operation of the Massachusetts Bay Commuter Railroad Bridge at mile 0.7 across the Annisquam River and Blynman Canal. The deviation is necessary to facilitate emergency structural repair. This deviation allows the bridge to remain in the closed position during the deviation period.

DATES: This deviation is effective for enforcement: With actual notice from December 1, 2010, through December 15, 2010 and with constructive notice from December 15, 2010 through April 17, 2011.

ADDRESSES: Documents mentioned in this preamble as being available in the docket are part of docket USCG-2010-1077 and are available online at http://www.regulations.gov, inserting USCG-2010-1077 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, contact Mr. John McDonald, Project Officer, First Coast Guard District, john.w.mcdonald@uscg.mil, or telephone (617) 223-8364. If you have questions on viewing the docket, call Renee V. Wright, Program Manager, Docket Operations, telephone 202-366-9826.

SUPPLEMENTARY INFORMATION: The Massachusetts Bay Commuter Railroad (MBCR) bridge, across the Annisquam River and Blynman Canal at mile 0.7, at Gloucester, MA, has a vertical clearance in the closed position of 16 feet at mean high water and 25 feet at mean low water. The drawbridge operation regulations are listed at 33 CFR 117.586.

The owner of the bridge MBCR requested a temporary deviation from the regulations to facilitate emergency structural repairs at the bridge. Under this temporary deviation the MBCR Bridge may remain in the closed position from December 1, 2010 through April 17, 2011. The bridge can be opened for emergencies by calling Ms. Patricia Mallon, Assistant Chief of Engineering at 617-222-3617 or 617-590-9828.

The bridge seldom receives requests to open December through April and there is an alternate route for vessel traffic since the waterway has outlets to open water at both ends. Vessels that can pass under the bridge in the closed position may do so at any time.

The Gloucester Harbor Master and the local marinas were notified and no objections were received.

In accordance with 33 CFR 117.35(e), the bridge must return to its regular operating schedule immediately at the end of the designated time period. This deviation from the operating regulations is authorized under 33 CFR 117.35.

Dated: December 1, 2010.
Gary Kassof,
Bridge Program Manager, First Coast Guard District.

[FR Doc. 2010-31407 Filed 12-14-10; 8:45 am]

BILLING CODE 9110-04-P